DEPARTMENT OF ENERGY

Federal Energy Regulatory Commission

[Project No. 2150-147]

Puget Sound Energy, Inc.; Notice of Water Quality Protection Plan Accepted for Filing and Soliciting Comments, Motions To Intervene, and Protests

Take notice that the following amendment application has been filed with the Commission and is available for public inspection:

a. Application Type: Water Quality Protection Plan.

b. Project No: P-2150-147.

c. Date Filed: August 5, 2021.

d. Applicants: Puget Sound Energy, Inc. (licensee).

e. Name of Projects: Baker River Hydroelectric Project.

f. Locations: The project is located on the Baker River in Skagit and Whatcom counties, Washington. The project occupies federal lands administered by the U.S. Forest Service within the Mt. Baker-Snoqualmie National Forest.

g. Filed Pursuant to: Federal Power Act, 16 U.S.C. 791a-825r.

h. Applicant Contact: Mr. Jory Oppenheimer, Consulting Engineer, Puget Sound Energy, P.O. Box 97034, Bellevue, WA 98009-9734; telephone: (425) 462-3556 and email jory.oppenheimer@pse.com.

i. FERC Contact: Marybeth Gay, (202) 502-6125, Marybeth.Gay@ferc.gov.

j. Deadline for filing comments, motions to intervene, and protests: October 18, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2150-147. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The Commission is requiring the licensee to grout one of the project's dams, the Lower Baker Dam, due to increasing leakage along its abutments. Upon completion of the seepage reduction project, the licensee would also make improvements to the crest of the Lower Baker Dam. As required by Article 401(a) of the project license, and condition 5.10 of the Washington Department of Ecology's May 11, 2007 Water Quality Certificate (WQC), attached to the license as Appendix C, the licensee developed the Water Quality Protection Plan (Plan) for the seepage reduction project and has filed the Plan for the Commission's approval. The Plan addresses the requirements set forth in condition 5.10 of the WQC, and includes: (1) An In-Water Work Protection Plan that specifies the best management practices (BMPs) for activities that require work within surface waters; (2) a Construction Stormwater Pollution Prevention Plan that addresses land-disturbing activities along with BMPs and other control measures to prevent pollutants from entering the project's surface water and groundwater; and (3) procedures for monitoring water quality, and actions to implement if a water quality violation were to occur. Construction of the seepage reduction project is currently scheduled to begin in early November 2021.

The licensee previously filed a draft Biological Assessment (BA) with the Commission on March 8, 2021 for the proposed seepage reduction and crest improvement project. On April 28, 2021, Commission staff adopted the licensee's draft BA without changes as the Commission's final BA and requested formal consultation with the U.S. Fish and Wildlife Service and the National Marine Fisheries Service.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: September 16, 2021.
Kimberly D. Bose,
Secretary.

[FR Doc. 2021-20483 Filed 9-21-21; 8:45 am]

BILLING CODE 6717-01-P